NATIONAL ARCHIVES AND RECORDS ADMINISTRATION

Privacy Act of 1974; Systems of Records

AGENCY: National Archives and Records Administration (NARA).

ACTION: Notice to amend records systems.

SUMMARY: NARA proposes to amend 3 system of records notices in its inventory of records systems subject to the Privacy Act of 1974 (5 U.S.C. 552a), as amended.

Sections 552a(e)(4) and (11) of the Privacy Act require that the public be given 30 days to comment on new routine uses of information in the system. The Office of Management and Budget (OMB), which has oversight responsibility under the Act, requires 40 days to review the proposed new routine uses and exemptions for the system. Therefore, the public, OMB, and the Congress are invited to submit written comments by April 19, 2000.

DATES: The revised system notices will be effective without further notice on April 19, 2000, unless comments received before that date cause a contrary decision. If, based on the review of comments received, NARA determines to make changes to the system notices, a new final notice will be published.

ADDRESSES: Send comments to the Privacy Act Officer, Office of General Counsel (NGC), Room 3100, National Archives and Records Administration, 8601 Adelphi Road, College Park, Maryland, 20740-6001. You may also fax comments to 301-713-6040.

FOR FURTHER INFORMATION CONTACT: Mary Ronan at 301-713-6025, extension 226.

SUPPLEMENTARY INFORMATION: NARA proposes to amend the routine uses of 3 system of records notices in its inventory of record systems subject to the Privacy Act of 1974 (5 U.S.C. 552a), as amended. The routine use statements for NARA 1, Researcher Application Files; NARA 5, Conference, Workshop, and Training Course Files; and NARA 6, Mailing List Files, are being modified to allow the NARA Development Staff to use the records to generate mailing lists for sending out fundraising materials for the Foundation for the National Archives. Use of records in Privacy Act systems NARA 1 and NARA 5 by the Development Staff is limited to those records where the subject individual has not requested that his or her name not be included on the mailing list. These 3 systems are also being modified to update addresses and contact points, and the authority citations.

We are also modifying Appendix B to update addresses of NARA facilities.

Dated: March 6, 2000.
John W. Carlin,
Archivist of the United States.

NARA 1

SYSTEM NAME:

Researcher Application Files.

SYSTEM LOCATION:

Researcher application files are maintained in the following locations in the Washington, DC, area and other geographical regions. The addresses for these locations are listed in Appendix B following the NARA Notices:

(1) Customer Services Division (College Park, MD);

(2) Presidential libraries and projects; and

(3) regional records services facilities.

CATEGORIES OF INDIVIDUALS COVERED BY THE SYSTEM:

Individuals covered by this system include persons who apply to use original records for research in NARA facilities in the Washington, DC, area, the Presidential libraries, and the regional records services facilities.

CATEGORIES OF RECORDS IN THE SYSTEM:

Researcher application files may include: Researcher applications; related correspondence; and electronic records. These files may contain the following information about an individual: Name, address, telephone number, proposed research topic(s), occupation, name and address of employer/institutional affiliation, educational level and major field, expected result(s) of research, photo, researcher card number, type of records used, and other information furnished by the individual. Electronic systems may also contain additional information related to the application process.

AUTHORITY FOR MAINTENANCE OF THE SYSTEM:

44 U.S.C. 2108, 2111 note, and 2203(f)(1).

ROUTINE USES OF RECORDS MAINTAINED IN THE SYSTEM, INCLUDING CATEGORIES OF USERS AND THE PURPOSES OF SUCH USES:

NARA maintains researcher application files on individuals to: Register persons who apply to use original records for research at a NARA facility; record initial research interests of researchers; determine which records researchers may want to use; contact researchers if additional information of research interest is found or if problems with the requested records are discovered; and prepare mailing lists for sending information on NARA events, programs, publications, and invitations to join and contribute to the Foundation for the National Archives (unless individuals elect that their application information not be used for this purpose). The electronic databases serve as finding aids to the applications. Information in the system is also used by NARA staff to compile statistical and other aggregate reports regarding researcher use of records.

The routine use statements A, C, E, F, and G, described in Appendix A following the NARA Notices, also apply to this system of records.

POLICIES AND PRACTICES FOR STORING, RETRIEVING, ACCESSING, RETAINING, AND DISPOSING OF RECORDS IN THE SYSTEM: STORAGE:

Paper and electronic records.

RETRIEVABILITY:

Information in the records may be retrieved by the name of the individual or by researcher card number.

SAFEGUARDS:

During normal hours of operation, paper records are maintained in areas accessible only to authorized NARA personnel. Electronic records are accessible via passwords from terminals located in attended offices. After hours, buildings have security guards and/or doors are secured and all entrances are monitored by electronic surveillance equipment.

RETENTION AND DISPOSAL:

Researcher application files are temporary records and are destroyed in accordance with the disposition instructions in the NARA records schedule contained in FILES 203, the NARA Files Maintenance and Records Disposition Manual. Individuals may request a copy of the disposition instructions from the NARA Privacy Act Officer.

SYSTEM MANAGER(S) AND ADDRESS:

For researchers who apply to use records and Nixon presidential materials in the Washington, DC area, the system manager for researcher application files is: Assistant Archivist for Records Services—Washington, DC (NW), 8601 Adelphi Road, College Park, MD 20740-6001. For researchers who apply to use accessioned records, presidential records, and donated historical materials in the Presidential libraries and the regional records services facilities, the system managers of researcher application files are the directors of the individual libraries and regional records services facilities. The addresses for these locations are listed in Appendix B following the NARA Notices.

NOTIFICATION PROCEDURE:

Individuals interested in inquiring about their records should notify: NARA Privacy Act Officer (NGC), National Archives and Records Administration, 8601 Adelphi Road, College Park, MD 20740-6001.

RECORD ACCESS PROCEDURES:

Individuals who wish to gain access to their records should submit their request in writing to the NARA Privacy Act Officer at the address given above.

CONTESTING RECORD PROCEDURES:

NARA rules for contesting the contents and appealing initial determinations are found in 36 CFR part 1202.

RECORD SOURCE CATEGORIES:

Information in researcher application files is obtained from researchers and from NARA employees who maintain the files.

NARA 5

SYSTEM NAME:

Conference, Workshop, and Training Course Files.

SYSTEM LOCATION:

Conference, workshop, and training course files may be maintained in the following locations in the Washington, DC, area and other geographical regions. The addresses for these locations are listed in Appendix B following the NARA Notices:

(1) Office of Records Services—Washington, DC (College Park, MD);

(2) Office of Human Resources and Information Services (College Park, MD);

(3) Presidential libraries and projects; and

(4) Office of Regional Records Services (College Park, MD).

CATEGORIES OF INDIVIDUALS COVERED BY THE SYSTEM:

Individuals covered by this system include attendees and speakers at NARA-sponsored conferences, workshops, and training courses.

CATEGORIES OF RECORDS IN THE SYSTEM:

Conference, workshop, and training course files maintained on attendees may include: Standard Forms 182—Request, Authorization, Agreement, and Certification of Training or equivalent forms; application/registration forms; evaluations; other administrative forms; and copies of payment records. Files maintained on speakers may include correspondence, biographical statements, and resumes. These files may contain some or all of the following information about an individual: Name, home address, business address, home telephone number, business telephone number, social security number, birthdate, position title, name of employer/organization, employment history, professional awards, areas of expertise, research interests, reasons for attendance, titles of publications, and other information furnished by the attendee or speaker.

AUTHORITY FOR MAINTENANCE OF THE SYSTEM:

44 U.S.C. 2104, 2109, and 2904.

ROUTINE USES OF RECORDS MAINTAINED IN THE SYSTEM, INCLUDING CATEGORIES OF USERS AND THE PURPOSES OF SUCH USES:

NARA maintains files on attendees and speakers to: Register attendees for conferences, workshops, training courses, and other events; contact attendees for follow-up discussions; plan, publicize, and document interest in current and future NARA-sponsored conferences, workshops, training courses, and special events; and prepare mailing lists for sending information on NARA events, programs, publications, and invitations to join and contribute to the Foundation for the National Archives (unless individuals elect that that their application information not be used for this purpose). Information in the records is also used to prepare statistical and other reports on conferences, workshops, training courses, and other events sponsored by NARA.

NARA may disclose information on individuals in the files to outside organizations that co-sponsor conferences, workshops, training courses, and other events for purposes of administering the course or event. NARA may disclose information on an individual to the organization or agency that funded the individual's attendance. The routine use statement F, described in Appendix A following the NARA Notices, also applies to this system of records.

POLICIES AND PRACTICES FOR STORING, RETRIEVING, ACCESSING, RETAINING, AND DISPOSING OF RECORDS IN THE SYSTEM: STORAGE:

Paper and electronic records.

RETRIEVABILITY:

Information in paper records may be retrieved by either the title or the date of the conference, workshop, training course, or event and thereunder by the name of the individual. Information in electronic records may be retrieved by the name of the individual.

SAFEGUARDS:

During business hours, paper records are maintained in areas accessible only to authorized NARA personnel. Electronic records are accessible via passwords from terminals located in attended offices. After business hours, buildings have security guards and/or secured doors, and all entrances are monitored by electronic surveillance equipment.

RETENTION AND DISPOSAL:

Conference, workshop, and training course files are temporary records and are destroyed in accordance with the disposition instructions in the NARA records schedule contained in FILES 203, the NARA Files Maintenance and Records Disposition Manual. Individuals may request a copy of the disposition instructions from the NARA Privacy Act Officer.

SYSTEM MANAGER(S) AND ADDRESS:

For conference, workshop, and training course files located in the Office of Records Services—Washington, DC, the system manager is the Assistant Archivist for Records Services—Washington, DC (NW), 8601 Adelphi Road, College Park, MD 20740-6001. For files located in the Office of Human Resources and Information Services, the system manager is the Assistant Archivist for Human Resources and Information Services (NH), 8601 Adelphi Road, College Park, MD 20740-6001. For files in the following locations, the system manager is the director: Presidential libraries and projects, and regional records services facilities. The addresses are listed in Appendix B following the NARA Notices.

NOTIFICATION PROCEDURE:

Individuals interested in inquiring about their records should notify: NARA Privacy Act Officer (NGC), National Archives and Records Administration, 8601 Adelphi Road, College Park, MD 20740-6001.

RECORD ACCESS PROCEDURES:

Individuals who wish to gain access to their records should submit their request in writing to the NARA Privacy Act Officer at the address given above.

CONTESTING RECORD PROCEDURES:

NARA rules for contesting the contents and appealing initial determinations are found in 36 CFR part 1202.

RECORD SOURCE CATEGORIES:

Information in the files may be obtained from speakers, attendees, and potential speakers and attendees at NARA-sponsored conferences, workshops, and training courses, and from references provided by those individuals.

NARA 6

SYSTEM NAME:

Mailing List Files.

SYSTEM LOCATION:

Mailing lists may be maintained in the following NARA locations. The addresses for these locations are listed in Appendix B following the NARA Notices:

(1) Communications Staff (College Park, MD);

(2) National Historical Publications and Records Commission (Washington, DC);

(3) Public Programs (NWE) (College Park, MD);

(4) Staff Development Services Branch (College Park, MD);

(5) Acquisitions Services Division (College Park, MD);

(6) Presidential libraries and projects;

(7) Regional records services facilities; and

(8) Development Staff (College Park, MD).

CATEGORIES OF INDIVIDUALS COVERED BY THE SYSTEM:

Individuals covered by this system may include: Members of the media; Members of Congress; members of the National Historical Publications and Records Commission; members of the Foundation for the National Archives; local, political, and other dignitaries; researchers and records managers; historians, archivists, librarians, documentary editors, and other professionals in related fields; educators; authors; subscribers to free and fee publications and newsletters; buyers of NARA products; vendors; and other persons with an interest in NARA programs, exhibits, conferences, training courses, and other events.

CATEGORIES OF RECORDS IN THE SYSTEM:

In addition to names and addresses, mailing lists may include any of the following information about an individual: Home/business telephone number; position title; name of employer, organization, and/or institutional affiliation; and subscription expiration date.

AUTHORITY FOR MAINTENANCE OF THE SYSTEM:

44 U.S.C. 2104, 2307 and 2904(c).

ROUTINE USES OF RECORDS MAINTAINED IN THE SYSTEM, INCLUDING CATEGORIES OF USERS AND THE PURPOSES OF SUCH USES:

NARA maintains mailing lists to generate address labels to: Disseminate mailings of NARA and Foundation for the National Archives publications, newsletters, press releases, and announcements of meetings, conferences, workshops, training courses, public and educational programs, special events, and procurements; send invitations for exhibit openings, lectures, and other special events; send information on NARA events, programs, publications, and invitations to join and contribute to the Foundation for the National Archives; and send customers updated information about NARA holdings and about methods of requesting copies of accessioned and non-current records.

The routine use statement F, described in Appendix A following the NARA Notices, also applies to this system of records.

POLICIES AND PRACTICES FOR STORING, RETRIEVING, ACCESSING, RETAINING, AND DISPOSING OF RECORDS IN THE SYSTEM: STORAGE:

Electronic records from which paper records may be printed.

RETRIEVABILITY:

Information about individuals maintained in mailing lists may be retrieved by: the name of the individual; the name of an employer or institutional/organizational affiliation; the category of individuals/organizations on mailing lists; the city or zip code.

SAFEGUARDS:

During business hours, paper records are maintained in areas accessible only to authorized NARA personnel. Electronic records are accessible via passwords from terminals located in attended offices. After business hours, buildings have security guards and/or secured doors, and all entrances are monitored by electronic surveillance equipment.

RETENTION AND DISPOSAL:

Mailing lists are periodically updated and purged of outdated information. NARA organizational units retain mailing lists for as long as the lists are needed for the purposes previously cited.

SYSTEM MANAGER(S) AND ADDRESS:

For mailing lists maintained in the previously cited locations (1) through (8), the system managers are:

(1) Director, Communications Staff (NCOM) (College Park, MD);

(2) Executive Director, National Historical Publications and Records Commission (NHPRC) (Washington, DC);

(3) Assistant Archivist for Records Services—Washington, DC (College Park, MD);

(4) Assistant Archivist for Human Resources and Information Services (College Park, MD);

(5) Assistant Archivist for Administrative Services (College Park, MD);

(6) Directors of the Presidential libraries;

(7) Directors of regional records services facilities; and

(8) Development Officer (College Park, MD).

The addresses are listed in Appendix B following the NARA Notices.

NOTIFICATION PROCEDURE:

Individuals interested in inquiring about their records should notify: NARA Privacy Act Officer (NGC), National Archives and Records Administration, 8601 Adelphi Road, College Park, MD 20740-6001.

RECORD ACCESS PROCEDURES:

Individuals who wish to gain access to their records should submit their request in writing to the NARA Privacy Act Officer at the address given above.

CONTESTING RECORD PROCEDURES:

NARA rules for contesting the contents and appealing initial determinations are found in 36 CFR part 1202.

RECORD SOURCE CATEGORIES:

Information in mailing lists is obtained from individuals whose names are recorded on mailing lists for the purposes previously cited or from NARA employees who maintain the lists.

APPENDIX B—ADDRESSES OF NARA FACILITIES

Washington, DC, Area Facilities

The National Archives Building, 700 Pennsylvania Avenue, NW, Washington, DC 20408-0001

The National Archives at College Park, 8601 Adelphi Road, College Park, MD 20740-6001

National Records Centers

Washington National Records Center, 4205 Suitland Road, Washington, DC 20409-0002

Military Personnel Records, National Personnel Records Center, 9700 Page Ave., St. Louis, MO 63132-5100

Civilian Personnel Records, National Personnel Records Center, 111 Winnebago St., St. Louis, MO 63118-4199

Presidential Libraries

Herbert Hoover Library, 210 Parkside Dr., West Branch, IA (Mailing address: PO Box 488, West Branch, IA 52358-0488)

Franklin D. Roosevelt Library, 511 Albany Post Rd., Hyde Park, NY 12538-1999

Harry S. Truman Library, 500 W. US Hwy 24, Independence, MO 64050-1798

Dwight D. Eisenhower Library, 200 SE Fourth Street, Abilene, KS 67410-2900

John Fitzgerald Kennedy Library, Columbia Point, Boston, MA 02125

Lyndon Baines Johnson Library, 2313 Red River St., Austin, TX 78705-5702

Gerald R. Ford Library, 1000 Beal Avenue, Ann Arbor, MI 48109-2114

Gerald R. Ford Museum, 303 Pearl St. NW, Grand Rapids MI 49504-5353

Jimmy Carter Library, 1 Copenhill Ave. NE, Atlanta, GA 30307-1406

Ronald Reagan Library, 40 Presidential Dr., Simi Valley, CA 93065-0666

George Bush Library, 1000 George Bush Dr. West, College Station, TX 77845

Regional Records Services Facilities

NARA's Northeast Region (Boston), 380 Trapelo Road, Waltham, MA 02452-6399

NARA's Northeast Region (Pittsfield), 10 Conte Drive, Pittsfield, MA 01201-8230

NARA's Northeast Region (New York City), 201 Varick Street, New York, NY 10014-4811

NARA's Mid Atlantic Region (Northeast Philadelphia), 14700 Townsend Road, Philadelphia, PA 19154-1096

NARA's Mid Atlantic Region (Center City Philadelphia), 900 Market Street, Philadelphia, PA 19107-4292

NARA's Southeast Region, 1557 St. Joseph Avenue, East Point, GA 30344-2593

NARA's Great Lakes Region (Chicago), 7358 South Pulaski Road, Chicago, IL 60629-5898

NARA's Great Lakes Region (Dayton), 3150 Springboro Road, Dayton, OH 45439-1883

NARA's Central Plains Region (Kansas City), 2312 East Bannister Road, Kansas City, MO 64131-3011

NARA's Central Plains Region (Lee's Summit), 200 Space Center Drive, Lee's Summit, MO 64064-1182

NARA's Southwest Region, 501 West Felix Street, Building 1, Fort Worth, TX 76115-3405 (Mailing Address: P.O. Box 6216, Fort Worth, Texas 76115-0216)

NARA's Rocky Mountain Region, Building 48, Denver Federal Center, West 6th Avenue and Kipling Street, Denver, CO (Mailing Address: P.O. Box 25307, Denver, CO 80225-0307)

NARA's Pacific Region (San Francisco), 1000 Commodore Drive, San Bruno, CA 94066-2350

NARA's Pacific Region (Laguna Niguel), 24000 Avila Road, First Floor-East Entrance, Laguna Niguel, CA (Mailing Address: P.O. Box 6719, Laguna Niguel, CA 92607-6719)

NARA's Pacific Alaska Region (Seattle), 6125 Sand Point Way NE, Seattle, WA 98115-7999

NARA's Pacific Alaska Region (Anchorage), 654 West Third Avenue, Anchorage, AK 99501-2145

[FR Doc. 00-5964 Filed 3-9-00; 8:45 am]

BILLING CODE 7515-01-P